DEPARTMENT OF HEALTH AND HUMAN SERVICES

Health Care Financing Administration

45 CFR Parts 447 and 457

State Child Health; State Children's Health Insurance Program Allotments and Payments to States

Correction

In rule document 00-12879 beginning on page 33616 in the issue of Wednesday, May 24, 2000, make the following correction:

§457.218 [Corrected]

On page 33625, in the third column, in §457.218(c)(6), in the second line, before ``The'' add paragraph designation ``(i)''.

[FR Doc. C0-12879 Filed 6-16-00; 8:45 am]

BILLING CODE 1505-01-D

DEPARTMENT OF HEALTH AND HUMAN SERVICES

National Institutes of Health

Establishment of Interagency Council on Biomedical Imaging in Oncology and Call for Requests to Present

Correction

In notice document 00-13026 beginning on page 33561 in the issue of Wednesday, May 24, 2000, make the following corrections:

1. On page 33561, the notice's subject is corrected to read as set forth above.

2. On the same page, in the second column, in the sixth line, the name and title of the Contact Person: should read ``Ellen G. Feigal, M.D.''.

[FR Doc. C0-13026 Filed 6-16-00; 8:45 am]

BILLING CODE 1505-01-D